DEPARTMENT OF STATE

[Public Notice 5242]

Bureau of Educational and Cultural Affairs (ECA) Request for Grant Proposals: Open Competition Seeking Professional Exchanges Programs in Africa, East Asia, Eurasia, Europe, the Near East, North Africa, South Asia and the Western Hemisphere

Announcement Type: New Grant.

Funding Opportunity Number: ECA/PE/C-06-01.

Catalog of Federal Domestic Assistance Number: 19.415.

Key Dates:

Application Deadline: February 9, 2006.

Executive Summary: The Office of Citizen Exchanges of the Bureau of Educational and Cultural Affairs announces an open competition for grants that support exchanges and build relationships between U.S. non-profit organizations and civil society groups in Africa, East Asia, Eurasia, Europe, the Near East, North Africa, South Asia and the Western Hemisphere. U.S. public and non-profit organizations meeting the provisions described in Internal Revenue code section 26 U.S.C. 501(c)(3) may submit proposals that support the goals of The Professional Exchanges Program. Projects should promote mutual understanding and partnerships between key professional groups in the United States and counterpart groups in other countries through multi-phased exchanges taking place over one to three years. Proposals should further transformational democracy which seeks to encourage and support the development of more democratic societies and institutions, with a view toward creating a more stable world. To the fullest extent possible, programs should be two-way exchanges supporting roughly equal numbers of participants from the U.S. and foreign countries.

Proposed projects should promote the transformation of institutional and individual understanding, foster dialogue, share expertise and develop capacity in one of five thematic areas: (1) Responsible Governance; (2) Developing Professional Standards in Media; (3) Creating Economic Growth to Fight Poverty and Strengthen Democracy; (4) Dialogue on Intellectual Property or Municipal Governance as a Device for Bridging Conflict; and (5) Integration of Marginalized Populations, Particularly Youth, in Western Europe. Through these people-to-people exchanges, the Bureau seeks to break down stereotypes that divide peoples, to promote good governance, to contribute to conflict prevention and management, and to build respect for cultural expression and identity in a world that is experiencing rapid globalization. Projects should be structured to allow American professionals and their international counterparts in target countries to develop a common dialogue for dealing with shared challenges and concerns. Projects should include current or potential leaders who will effect positive change in their communities. Exchange participants might include community leaders, elected and professional government officials, religious leaders, educators, and proponents of democratic ideals and institutions, including for example, the media and judiciary, or others who influence the way in which different communities approach these issues. The Bureau is especially interested in engaging socially and economically diverse groups that may not have had extensive contact with counterpart institutions in the United States. The Bureau encourages the submission of proposals that engage these audiences in countries with significant Muslim populations, or that engage educators or groups that influence youth in innovative ways.

Applicants may not submit proposals that address more than one region or for countries that are not designated in the RFGP.

For the purposes of this competition, eligible regions are Africa, East Asia, Eurasia, Europe, the Near East, North Africa, South Asia, and the Western Hemisphere. No guarantee is made or implied that grants will be awarded in all themes and for all countries listed.

Requests for grant proposals on the creation, performance, or presentation of artistic work will be announced in a separate competition.

Please refer to section III.3 for information on eligibility requirements.

I. Funding Opportunity Description

Authority

Overall grant-making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

The Bureau seeks proposals that will address the following priority themes: (1) Responsible Governance; (2) Developing Professional Standards in Media; (3) Creating Economic Growth to Fight Poverty and Strengthen Democracy; (4) Dialogue on Intellectual Property or Municipal Governance as a Device for Bridging Conflict; and (5) Integration of Marginalized Populations, Particularly Youth, in Western Europe.

The competition is based on the premise that people-to-people exchanges encourage and strengthen understanding of democratic values and nurture the social, political, and economic development of societies. Exchanges supported by institutional grants from the Bureau should operate at two levels: they should enhance partnerships between U.S. and foreign institutions, and they should establish a common dialogue to develop practical solutions for shared problems and concerns. The Bureau is particularly interested in projects that will create mutually beneficial and self-sustaining linkages between professional communities in the U.S. and their counterpart communities in other countries. Applicants must identify the U.S. and foreign organizations and individuals with whom they are proposing to collaborate and describe previous cooperative activities, if any. Information about the mission, activities, and accomplishments of partner organizations should be included in the submission. Proposals should contain letters of commitment or support from partner organizations for the proposed project. Applicants should clearly outline and describe the role and responsibilities of all partner organizations in terms of project logistics, management and oversight. Proposals that show strong prospects for enhancing existing long-term collaboration or establishing new collaborative efforts among participating organizations will be deemed more competitive under the Program Planning and Ability to Achieve Objectives review criterion, per item V.1 below.

Competitive proposals will include the following:

• A brief description of the problem as it relates to the target country or region. (Proposals that request resources for an initial needs assessment will be deemed less competitive under the review criterion Program Planning and Ability to Achieve Objectives, per item V.1 below.);

• A clear statement of program objectives and projected outcomes that respond to Bureau goals for each theme in this competition. Desired outcomes should be described in qualitative and quantitative terms. (See the Program Monitoring and Evaluation section per item V.1 below, for more information on project objectives and outcomes.);

• A proposed timeline, listing the optimal schedule for each program activity;

• A description of participant recruitment and selection processes;

• Letters of support from foreign and U.S. partners. (Letters from prospective partner institutions should demonstrate an ability to arrange and conduct U.S. and overseas activities.);

• An outline of the applicant organization's relevant expertise in the project theme and country(ies);

• An outline of relevant experience managing previous exchange programs;

• Resumes of experienced staff who have demonstrated a commitment to monitor projects and ensure implementation;

• A comprehensive plan to evaluate whether program outcomes achieved met the specific objectives described in the narrative. (See the Program Monitoring and Evaluation section [IV.3d.d below] for further guidance on evaluation.);

• A post-grant plan that demonstrates how the grantee plans to maintain contacts initiated through the program. Applicants should discuss ways that U.S. and foreign participants or host institutions could collaborate and communicate after the ECA-funded grant has concluded. (See Review Criterion #5, per item V.1 below for more information on post-grant activities.)

• Successful projects will demonstrate the importance Americans place on community service as an element of a strong civil society and may include ideas and projects to strengthen civil society through community service either during participants' stay in the U.S. or upon their return to their countries.

• In addition to addressing the themes described below, proposals should develop partner organizations' capacity in such areas as strategic planning, performance management, fund raising, financial management, human resources management, and decision-making.

It is important that the proposal narrative clearly state the applicant's commitment to consult closely with the Public Affairs Section of the U.S. embassy in the relevant country(ies) to develop plans for project implementation and to select project participants. Proposals should also acknowledge U.S. embassy involvement in the final selection of all participants. Applicants should state their willingness to invite representatives of the embassy(ies) and/or consulate(s) to participate in program sessions or site visits. Applicants are also strongly encouraged to consult with Public Affairs Officers at U.S. embassies in relevant countries as they develop proposals responding to this RFGP. Narratives should state that all material developed for the project will prominently acknowledge Department of State ECA Bureau funding for the program. In addition, before submitting a proposal, applicants are strongly encouraged to be in touch with the Washington, DC-based State Department contact for the themes/regions listed after each program description below.

Themes

I. Responsible Governance

• Educate citizens and youth influencers, including teachers and leaders of youth organizations, on rights and responsibilities in a democracy and empower them to participate in the development of public policy, public discussions and debates by developing their individual skills and organizations. Projects should engage government and NGO leaders in dialogue.

• Engage government leaders—national and local—in the importance of citizen participation in governmental decision-making and develop/examine specific practices that promote an effective, accountable, transparent and responsive government and public administration that is crucial to the development of democracy. Projects should engage government and NGO leaders in dialogue.

Audience: Representatives from government and non-governmental organizations, teachers, community leaders.

Ideal Program Model

• U.S. grantee identifies U.S. citizens to conduct in-country seminar for citizen activists, teachers, NGO representatives, responsible media, elected local government officials, and legal professionals to discuss transparency and accountability. In-country partner (a local university or other appropriate professional group) would co-host the event with the U.S. grantee institution; selection of participants for U.S. program.

• U.S. program that would include a seminar on the role of government/citizen in the U.S.; internships in local elected officials' offices, NGO organizations, and citizen organizations; and a one-day debriefing and evaluation.

• In-country program conducted by U.S. experts that served as internship hosts or seminar leaders. Participants in U.S. program design the seminar and serve as co-presenters. Project would also support materials translated into target language, small grants for projects designed to expand the exchange experience and support for the development of alumni association.

Eligible Countries

Africa (single-country and multiple-country projects accepted)

Angola, Ethiopia, Kenya, Mauritania, Niger, Nigeria, Swaziland

Contact: Curtis Huff, tel: (202) 453-8159, e-mail: HuffCE@State.gov

East Asia Pacific (single-country projects only)

China, Indonesia, Vietnam

Contact: Clint Wright, tel: (202) 453-8164, e-mail: WrightHC@state.gov

Europe and Eurasia (single-country projects only)

Turkey, Ukraine, Kosovo

Europe and Eurasia (multiple-country projects only)

Kyrgyz Republic, Kazakhstan, Tajikistan

Contact: Brent Beemer, tel: (202) 453-8147, e-mail: BeemerBT@state.gov

Near East/North Africa (single-country and multiple-country projects accepted for themes listed above)

Syria, Algeria, Oman, Morocco, Saudi Arabia, Yemen

Near East/North Africa (multiple-country project only for theme listed below)

Egypt, Israel, Jordan, Lebanon, Palestinian Authority Proposals will be only accepted for:

• Engage young political leaders and activists—those active in political parties, university student politics and NGOs—in order to strengthen the participation of youth in the political field.

Contact: Thomas Johnston, tel: (202) 453-8162, e-mail: JohnstonTJ@state.gov

South Asia (single-country and multiple-country projects accepted)

Bangladesh, India, Nepal, Pakistan, Sri Lanka

Contact: Thomas Johnston, tel: (202) 453-8162, e-mail: JohnstonTJ@state.gov

II. Developing Professional Standards in Media

• Educate media professionals, both journalists, editors and media managers, in professional standards, including accountability, objective reporting, and investigative journalism in order to ensure widespread, accurate media coverage on one of the following issues: HIV/AIDS, anti-corruption, business development or cultural/ethnic diversity. Projects should also raise media professionals' awareness of the issue. Applicants should propose meetings with advocacy groups and assistance organizations that work to address the target issue.

• Empower professionals to develop internal media that is independent and accountable to the public. Separate programs for broadcast (radio/television) and print media are envisioned.

• Support journalism teachers in designing curricula that promote the development of a responsible and financially sound media.

Audience: Broadcast, print and Web-based journalists and media managers; teachers

Ideal Program Model

• In-country workshop on topics to be determined depending on audience (teachers of journalism, editors, reporters, publishers); selection of participants for U.S. program. In-country workshops should include NGO representatives working on the target issue.

• Four- to five-week U.S. program that includes a week-long academic seminar through a journalism educational institution on the role of the media in the U.S., practices and professional skills development and a three- to four-week internship program in U.S. media outlets that match the size and type of participant's home outlet.

• U.S. media experts travel to country to conduct a follow-on academic seminar for program participants and their colleagues on best practices and lessons learned and to do on-site consultancies in local media outlets.

Eligible Countries

Africa (single-country and multiple-country projects accepted)

Cameroon, Ethiopia, Liberia, Mali, Niger, Nigeria, Tanzania, Uganda

Contact: Curtis Huff, tel: (202) 453-8159, e-mail: HuffCE@State.gov

East Asia and Pacific (single-country projects only)

Cambodia, China, Indonesia, Republic of Korea, Laos, Malaysia, Philippines, Vietnam

Contact: Clint Wright, tel: (202) 453-8164, e-mail: WrightHC@state.gov

Europe and Eurasia (single-country projects only)

Armenia, Belarus, Azerbaijan, Russia, Kyrgyzstan, Kazakhstan

Contact: Brent Beemer, tel: (202) 453-8147, e-mail: BeemerBT@state.gov

Near East/North Africa (single-country and multiple-country projects accepted)

Iraq, the Palestinian Authority, Syria, Libya, Algeria, Tunisia, Saudi Arabia

Contact: Thomas Johnston, tel: (202) 453-8162, e-mail: JohnstonTJ@state.gov

South Asia (single-country and multiple-country projects accepted)

Afghanistan, Bangladesh, India, Nepal, Pakistan

Contact: Thomas Johnston, tel: (202) 453-8162, e-mail: JohnstonTJ@state.gov

Western Hemisphere (single-country and multiple-country projects accepted)

Bolivia, Dominican Republic, Ecuador, Haiti, Nicaragua, Peru, Venezuela

Contact: Laverne Johnson, tel: (202) 453-8160, e-mail: JohnsonLV@state.gov

III. Creating Economic Growth to Fight Poverty and Strengthen Democracy

• Engage community and business leaders, including those involved in science and technology, to promote economic growth and prosperity among youth by sharing practical methods and developing leadership skills in business, including the importance of corporate social responsibility.

• Educate youth and women in entrepreneurial thinking and business leadership skills to empower them to engage in business creation.

Audience: Young entrepreneurs, teachers, community leaders, including representatives from governmental and non-governmental organizations

Ideal Program Model

• Successful businessmen conduct workshops for audiences on effective, practical methods of stimulating entrepreneurial skills in target countries.

• Key members of in-country workshops invited to U.S. for business facilitation or mentoring to promote innovation and networking skills. Develop action plans for business implementation upon return home.

• Upon return participants implement business action plans with guidance from U.S. mentors utilizing e-mail and other direct communication.

• Business mentors travel to country to evaluate implementation of action plan and offer assistance.

Eligible Countries

Africa (single-country and multiple-country projects accepted)

Benin, Democratic Republic of Congo, Ethiopia, Ghana, Liberia, Mauritania, Niger, Sierra Leone, Tanzania

Contact: Curtis Huff, tel: (202) 453-8159, e-mail: HuffCE@State.gov

East Asia Pacific (multiple-country projects only)

Cambodia, Laos, Vietnam

East Asia Pacific (single-country projects only)

Mongolia

Contact: Clint Wright, tel: (202) 453-8164, e-mail: WrightHC@state.gov

Near East/North Africa (single-country projects only)

Algeria, Palestinian Authority, Syria, Yemen

Contact: Thomas Johnston, tel: (202) 453-8162, e-mail: JohnstonTJ@state.gov

Western Hemisphere (single-country and multiple-country projects accepted)

Bolivia, Brazil, Colombia, Dominican Republic, Ecuador, Haiti, Mexico, Nicaragua, Peru, Venezuela. Particular focus on indigenous and Afro-Latino communities.

Contact: Laverne Johnson, tel: (202) 453-8160, e-mail: JohnsonLV@state.gov

South Asia (single-country and multiple-country projects accepted)

Afghanistan, India, Bangladesh, Sri Lanka

Contact: Thomas Johnston, tel: (202) 453-8162, e-mail: JohnstonTJ@state.gov

IV. Dialogue on Intellectual Property or Municipal Governance as a Device for Bridging Conflict

• Engage citizens from China and Taiwan in a dialogue on intellectual property or municipal governance in order to foster increased understanding.

Audience: Local government representatives, lawyers, representatives from the NGO sector, community leaders

Ideal Program Model

• In-country program that includes workshops and outreach to wide audience. Recruitment and selection of participants for U.S. program from those that have attended workshops.

• U.S. program that includes site visits, meetings and internships

• In-country program that includes workshops, led by American experts and participants in the U.S. program. The development of handbooks, educational materials and long-term institutional relationships.

Eligible Countries

East Asia and Pacific—China and Taiwan Only

Contact: Clint Wright, tel: (202) 453-8164, e-mail: WrightHC@state.gov

V. Integration of Marginalized Populations, Particularly Youth, in Western Europe

• Engage community leaders, educators, youth influencers, journalists, representatives of community organizations and government departments in examination of programs and practices to facilitate integration, assimilation and empowerment of minority populations, particularly youth.

Audience: Community leaders, educators, youth influencers, journalists, NGO and government representatives.

Ideal Program Model

• In-country workshops for 20-40 foreign and U.S. participants to examine the process of integration/assimilation of marginalized populations in Europe and to evaluate the programs, both governmental and non-governmental, to support immigrants.

• U.S. program for 10-15 foreign participants to examine the history of and current U.S. practices of integrating immigrant populations into society. Examine and compare immigrant groups in European and U.S. societies, looking at access to education, employment opportunities, political involvement, community leadership, and government and private sector roles in outreach to marginalized youth.

Eligible Countries

Europe (single-country projects only)

United Kingdom, France, Netherlands, Spain, Belgium, Germany

Contact: Brent Beemer, tel: (202) 453-8147, e-mail: BeemerBT@state.gov

Suggested Program Designs

Bureau-supported exchanges may include internships; study tours; short-term, non-technical experiential learning; extended and intensive workshops; and seminars taking place in the United States or overseas as long as these seminars promote intensive exchange of ideas among participants in the project. Examples of program activities include:

1. A U.S.-based program that includes an orientation to program purposes and to U.S. society; study tour/site visits; professional internships/placements; interaction and dialogue; hands-on training; professional development; and action plan development.

2. Capacity-building/training-of-trainer (TOT) workshops to help participants to identify priorities, create work plans, strengthen professional and volunteer skills, share their experience with committed people within each country, and become active in a practical and valuable way.

3. Site visits by U.S. facilitators/experts to monitor projects in the region and to encourage further development, as appropriate.

Participant Selection

Proposals should clearly describe the types of persons that will participate in the program as well as the participant recruitment and selection processes. For programs that include U.S. internships, applicants should submit letters of support from host institutions. In the selection of foreign participants, the Bureau and U.S. embassies retain the right to review all participant nominations and to accept or refuse participants recommended by grantee institutions. When U.S. participants are selected, grantee institutions must provide their names and brief biographical data to the Office of Citizen Exchanges. Priority in two-way exchange proposals will be given to foreign participants who have not previously traveled to the United States.

Security Considerations

With regard to projects focusing on Afghanistan, Pakistan, and Iraq, applicants should be aware of security concerns that will affect the ability of the grantee organization to arrange for the travel of U.S. citizens to these countries or to conduct site visits, participant interviews, seminars, workshops, or training sessions there. All travel to, and activities conducted in, these countries will be subject to consultation with and approval of official U.S. security personnel in country. The applicant organization should be prepared to modify timing or to reconfigure project implementation plans as required by security considerations.

II. Award Information

Type of Award: Grant.

Fiscal Year Funds: FY-2006.

Approximate Total Funding: Pending availability of funding, $5.8 million.

Approximate Number of Awards: 25-30.

Approximate Average Award: $150,000-$250,000.

Floor of Award Range: $30,000.

Ceiling of Award Range: Approximately $250,000.

Anticipated Award Date: Pending availability of funds, August 31, 2006.

Anticipated Project Completion Date: July 31, 2007-May 31, 2009. Projects under this competition may range in length from one to three years depending on the number of project components, the country/region targeted and the extent of the evaluation plan proposed by the applicant.

The Office of Citizen Exchanges strongly encourages applicant organizations to plan enough time after project activities to measure project outcomes. Please refer to the Program Monitoring and Evaluation section, item IV.3d.3 below, for further guidance on evaluation.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs. Cost sharing is an important element of the ECA-grantee institution relationship, and it demonstrates the implementing organization's commitment to the program. Cost sharing is included as one criterion for grant proposal evaluation. Applicants are strongly encouraged to cost share a portion of overhead and administrative expenses. Cost-sharing, including contributions from the applicant, proposed in-country partner(s), and other sources should be included in the budget request. Proposal budgets that do not reflect cost sharing will be deemed not competitive under the Cost Effectiveness and Cost Sharing criterion (item V.1 below). When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Grants awarded to eligible organizations with less than four years of experience in conducting international exchange programs will be limited to $60,000.

(b) Technical Eligibility: In addition to the requirements outlined in the Proposal Submission Instructions (PSI) technical format and instructions document, all proposals must comply with the following or they will result in your proposal being declared technically ineligible and given no further consideration in the review process.

1. The Office does not support proposals limited to conferences or seminars (i.e., one- to fourteen-day programs with plenary sessions, main speakers, panels, and a passive audience). It will support conferences only when they are a small part of a larger project in duration that is receiving Bureau funding from this competition.

2. No funding is available exclusively to send U.S. citizens to conferences or conference-type seminars overseas; nor is funding available for bringing foreign nationals to conferences or to routine professional association meetings in the United States.

3. The Office of Citizen Exchanges does not support academic research or faculty or student fellowships.

4. Applicants may not submit more than four (4) proposals total for this competition. Organizations that submit proposals that exceed these limits will result in having all of their proposals declared technically ineligible, and none of the submissions will be reviewed by a State Department panel.

5. Proposals that target countries/regions or themes not listed in the RFGP will be deemed technically ineligible.

6. Proposals involving the production or interpretation of artistic work WILL NOT be accepted under this competition, and if received, will be declared technically ineligible.

IV. Application and Submission Information

Note: Please read the complete Federal Register announcement before sending inquiries or submitting proposals. Once the RFGP deadline has passed, Bureau staff may not discuss this competition with applicants until the proposal review process has been completed.

IV.1 Contact Information to Request an Application Package: Please contact the Office of Citizen Exchanges, ECA/PE/C, Room 220, U.S. Department of State, SA-44, 301 4th Street, SW., Washington, DC, 20547, tel.: 202-453-8181; fax: 202-453-8168; or e-mail gustafsondp@state.gov or rectorva@state.gov to request a Solicitation Package. Please refer to the Funding Opportunity Number (ECA/PE/C-06-01) located at the top of this announcement when making your request.

The Solicitation Package contains the Proposal Submission Instruction (PSI) document which consists of required application forms, and standard guidelines for proposal preparation.

Please specify the Bureau Program Officer listed for each region and theme above and refer to the Funding Opportunity Number (ECA/PE/C-06-01) located at the top of this announcement on all other inquiries and correspondence.

IV.2. To Download a Solicitation Package Via Internet:

The entire Solicitation Package may be downloaded from the Bureau's Web site at http://exchanges.state.gov/education/rfgps/menu.htm. Please read all information before downloading.

IV.3. Content and Form of Submission: Applicants must follow all instructions in the Solicitation Package. The original and ten copies of the application should be sent per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa.

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grants under this RFGP will be third parties “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to fully comply with 22 CFR 62 et seq.

The Bureau of Educational and Cultural Affairs places great emphasis on the secure and proper administration of Exchange Visitor (J visa) Programs and adherence by grantee program organizations and program participants to all regulations governing the J visa program status.

Therefore, proposals should explicitly state in writing that the applicant is prepared to assist the Bureau in meeting all requirements governing the administration of Exchange Visitor Programs as set forth in 22 CFR 62. If your organization has experience as a designated Exchange Visitor Program Sponsor, the applicant should discuss its record of compliance with 22 CFR 62 et seq., including the oversight of its Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, Fax: (202) 453-8640.

IV.3d.2 Diversity, Freedom and Democracy Guidelines.

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation.

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. For this competition, requests should not exceed approximately $250,000. There must be a summary budget as well as breakdowns reflecting both administrative and program budgets. Applicants may provide separate sub-budgets for each program component, phase, location, or activity to provide clarification.

IV.3e.2. Allowable costs for the program include the following:

1. Travel. International and domestic airfare; visas; transit costs; ground transportation costs. Please note that all air travel must be in compliance with the Fly America Act. There is no charge for J-1 visas for participants in Bureau sponsored programs.

2. Per Diem. For U.S.-based programming, organizations should use the published Federal per diem rates for individual U.S. cities. Domestic per diem rates may be accessed at: http://policyworks.gov/org/main/mt/homepage/mtt/perdiem/perd03d.html. ECA requests applicants to budget realistic costs that reflect the local economy and do not exceed Federal per diem rates. Foreign per diem rates can be accessed at: http://www.state.gov/m/a/als/prdm/html.

3. Interpreters. For U.S.-based activities, ECA strongly encourages applicants to hire their own locally based interpreters. However, applicants may ask ECA to assign State Department interpreters. One interpreter is typically needed for every four participants who require interpretation. When an applicant proposes to use State Department interpreters, the following expenses should be included in the budget: Published Federal per diem rates (both “lodging” and “M&IE”) and “home-program-home” transportation in the amount of $400 per interpreter. Salary expenses for State Department interpreters will be covered by the Bureau and should not be part of an applicant's proposed budget. Bureau funds cannot support interpreters who accompany delegations from their home country or travel internationally.

4. Book and Cultural Allowances. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Honoraria rates should not exceed $250 per day. Organizations are encouraged to cost-share rates that would exceed that figure. Subcontracting organizations may also be employed, in which case the written agreement between the prospective grantee and sub-grantee should be included in the proposal. Such sub-grants should detail the division of responsibilities and proposed costs, and subcontracts should be itemized in the budget.

6. Room rental. The rental of meeting space should not exceed $250 per day. Any rates that exceed this amount should be cost shared.

7. Materials. Proposals may contain costs to purchase, develop and translate materials for participants. Costs for high quality translation of materials should be anticipated and included in the budget. Grantee organizations should expect to submit a copy of all program materials to ECA, and ECA support should be acknowledged on all materials developed with its funding.

8. Equipment. Applicants may propose to use grant funds to purchase equipment, such as computers and printers; these costs should be justified in the budget narrative. Costs for furniture are not allowed.

9. Working meal. Normally, no more than one working meal may be provided during the program. Per capita costs may not exceed $15-$25 for lunch and $20-$35 for dinner, excluding room rental. The number of invited guests may not exceed participants by more than a factor of two-to-one. When setting up a budget, interpreters should be considered “participants.”

10. Return travel allowance. A return travel allowance of $70 for each foreign participant may be included in the budget. This allowance would cover incidental expenses incurred during international travel.

11. Health insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

12. Wire transfer fees. When necessary, applicants may include costs to transfer funds to partner organizations overseas. Grantees are urged to research applicable taxes that may be imposed on these transfers by host governments.

13. In-country travel costs for visa processing purposes. Given the requirements associated with obtaining J-1 visas for ECA-supported participants, applicants should include costs for any travel associated with visa interviews or DS-2019 pick-up.

14. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive under the cost effectiveness and cost sharing criterion, per item V.1 below. Proposals should show strong administrative cost sharing contributions from the applicant, the in-country partner and other sources.

Please refer to the Solicitation Package for complete budget guidelines and formatting instructions.

IV.3f. Submission Dates and Times:

Application Deadline Date: Thursday, February 9, 2006.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and ten copies of the application should be sent to: U.S. Department of State, SA-44, Bureau of Educational and Cultural Affairs, Ref.: ECA/PE/C-06-01 Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

IV.3h. Applicants must also submit the “Executive Summary” and “Proposal Narrative” sections of the proposal in text (.txt) format on a PC-formatted disk. The Bureau will provide these files electronically to the appropriate Public Affairs Section(s) at the U.S. embassy(ies) for its (their) review.

V. Application Review Information

V.1. Review Process. The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program Planning and Ability to Achieve Objectives: Program objectives should be stated clearly and should reflect the applicant's expertise in the subject area and region. Objectives should respond to the topics in this announcement and should relate to the current conditions in the target country/countries. A detailed agenda and relevant work plan should explain how objectives will be achieved and should include a timetable for completion of major tasks. The substance of workshops, internships, seminars and/or consulting should be described in detail. Sample training schedules should be outlined. Responsibilities of proposed in-country partners should be clearly described. A discussion of how the applicant intends to address language issues should be included, if needed.

2. Institutional Capacity: Proposals should include (1) the institution's mission and date of establishment; (2) detailed information about proposed in-country partner(s) and the history of the partnership; (3) an outline of prior awards-U.S. Government and/or private support received for the target theme/country/region; and (4) descriptions of experienced staff members who will implement the program. The proposal should reflect the institution's expertise in the subject area and knowledge of the conditions in the target country/countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners.

3. Cost Effectiveness and Cost Sharing: Overhead and administrative costs in the proposal budget, including salaries, honoraria and subcontracts for services, should be kept to a minimum. Proposals whose administrative costs are less than twenty-five (25) per cent of the total funds requested from the Bureau will be deemed more competitive under this criterion. Applicants are strongly encouraged to cost share a portion of overhead and administrative expenses. Cost-sharing, including contributions from the applicant, proposed in-country partner(s), and other sources should be included in the budget request. Proposal budgets that do not reflect cost sharing will be deemed not competitive in this category.

4. Support of Diversity: Proposals should demonstrate substantive support of the Bureau's policy on diversity. Achievable and relevant features should be cited in both program administration (selection of participants, program venue and program evaluation) and program content (orientation and wrap-up sessions, program meetings, resource materials and follow-up activities). Applicants should refer to the Bureau's Diversity, Freedom and Democracy Guidelines in the Proposal Submission Instructions (PSI) and the Diversity, Freedom and Democracy Guidelines section, Item IV.3d.2, above for additional guidance.

5. Post-Grant Activities: Applicants should provide a plan to conduct activities after the Bureau-funded project has concluded in order to ensure that Bureau-supported programs are not isolated events. Funds for all post-grant activities must be in the form of contributions from the applicant or sources outside of the Bureau. Costs for these activities must not appear in the proposal budget, but should be outlined in the narrative.

6. Program Monitoring and Evaluation: Proposals should include a detailed plan to monitor and evaluate the program. Program objectives should target clearly defined results in quantitative terms. Competitive evaluation plans will describe how applicant organizations would measure these results, and proposals should include draft data collection instruments (surveys, questionnaires, etc.) in Tab E. See the “Program Management/Evaluation” section, item IV.3d.3 above for more information on the components of a competitive evaluation plan. Successful applicants (grantee institutions) will be expected to submit a report after each program component concludes or on a quarterly basis, whichever is less frequent. The Bureau also requires that grantee institutions submit a final narrative and financial report no more than 90 days after the expiration of a grant. Please refer to the “Program Management/Evaluation” section, item IV.3d.3 above for more guidance.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants. http://exchanges.state.gov/education/grantsdiv/terms.htm#articleI.

VI.3. Reporting Requirements: You must provide ECA with a hard copy original plus two copies of the following reports:

1. A final program and financial report no more than 90 days after the expiration of the award;

2. Any interim report(s) required in the Bureau grant agreement document.

Grantees will be required to provide reports analyzing their evaluation findings to the Bureau in their regular program reports. (Please refer to Application and Submission Instructions [IV.3d.3] above for Program Monitoring and Evaluation information.)

All data collected, including survey responses and contact information, must be maintained for a minimum of three years and provided to the Bureau upon request.

All reports must be sent to the ECA Grants Officer and ECA Program Officer listed in the final assistance award document.

VI.4. Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three workdays prior to the official opening of the activity.

VII. Agency Contacts

For questions about this announcement, contact: The Office of Citizen Exchanges, ECA/PE/C, Room 220, ECA/PE/C-06-01, Bureau of Educational and Cultural Affairs, U.S. Department of State, SA-44, 301 4th Street, SW., Washington, DC 20547; tel.: 202-453-8181; fax: 202-453-8168; gustafsondp@state.gov or rectorva@state.gov.

All correspondence with the Bureau concerning this RFGP should reference the above title and number ECA/PE/C-06-01.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 29, 2005.
Dina Habib Powell,
Assistant Secretary for Educational and Cultural Affairs, Department of State.

[FR Doc. E5-7073 Filed 12-7-05; 8:45 am]

BILLING CODE 4710-05-P